DEPARTMENT OF LABOR

Employment and Training Administration

[TA-W-61,275]

DeRoyal Textiles, Inc.; Yarn Plant; Camden, SC; Notice of Termination of Investigation

Pursuant to Section 221 of the Trade Act of 1974, an investigation was initiated on April 10, 2007 in response to a worker petition filed by a company official on behalf of workers at DeRoyal Textiles, Inc., Yarn Plant, Camden, South Carolina.

The petitioner has requested that the petition be withdrawn. Consequently, the investigation has been terminated.

Signed at Washington, DC this 21st day of May, 2007.
Richard Church,
Certifying Officer, Division of Trade Adjustment Assistance.

[FR Doc. E7-10309 Filed 5-29-07; 8:45 am]

BILLING CODE 4510-FN-P